DEPARTMENT OF HOMELAND SECURITY

Coast Guard

33 CFR Part 165

[Docket No. USCG-2016-0526]

Safety Zones; Recurring Events in Captain of the Port Boston Zone

AGENCY: Coast Guard, DHS.

ACTION: Notice of enforcement of regulation.

SUMMARY: The Coast Guard will enforce safety zones in the Captain of the Port Boston Zone on the specified dates and times listed below. This action is necessary to ensure the protection of the maritime public and event participants from the hazards associated with these annual recurring events. Under the provisions of our regulations, no person or vessel, except for the safety vessels assisting with the event may enter the safety zones unless given permission from the COTP or the designated on-scene representative. The Coast Guard may be assisted by other Federal, State, or local law enforcement agencies in enforcing this regulation.

DATES: The regulations in 33 CFR 165.118 will be enforced for the safety zones identified in the SUPPLEMENTARY INFORMATION section below for the dates and times specified.

FOR FURTHER INFORMATION CONTACT: If you have questions about this notice of enforcement, call or email Mr. Mark Cutter, Coast Guard Sector Boston Waterways Management Division, telephone 617-223-4000, email Mark.E.Cutter@uscg.mil.

SUPPLEMENTARY INFORMATION: The Coast Guard will enforce the safety zones listed in 33 CFR 165.118 on the specified dates and times as indicated in Table 1 below. This regulation was published in the Federal Register on November 8, 2013 (78 FR 67028).

Table 1
7.1 City of Lynn 4th of July Celebration Fireworks | • Event Type: Firework Display. • Sponsor: City of Lynn.
| • Date: July 3, 2016.
| • Time: 7:00 p.m. to 10:00 p.m.
| • Location: All waters of Nahant Bay, within a 350-yard radius of the fireworks barge located at position 42°27.51′ N., 070°55.52′ W. (NAD 83).
7.2 Gloucester July 4th Celebration Fireworks | • Event Type: Fireworks Display. • Sponsor: The Gloucester Fund.
| • Date: July 3, 2016.
| • Time: 8:00 p.m. to 11:00 p.m.
| • Location: All waters of Gloucester Harbor, Stage Fort Park, within a 350-yard radius of the fireworks launch site on the beach located at position 42°36.3′ N., 070°40.5′ W. (NAD 83).
7.3 Manchester by the Sea Fireworks | • Event Type: Fireworks Display.
| • Sponsor: Manchester Parks and Recreation Department.
| • Date: July 4, 2016.
| • Time: 9:00 p.m. to 10:00 p.m.
| • Location: All waters of Manchester Bay within a 350-yard radius of the fireworks launch site barge located at position 42°34.14′ N., 070°45.53′ W. (NAD 83).
7.4 Weymouth 4th of July Celebration Fireworks | • Event Type: Fireworks Display.
| • Sponsor: Town of Weymouth 4th of July Committee.
| • Date: July 3, 2016.
| • Time: 8:30 p.m. to 11:30 p.m.
| • Location: All waters of Weymouth Fore River, within a 350-yard radius of the fireworks launch site located at position 42°15.5′ N., 070°56.1′ W. (NAD 83).
7.5 Beverly 4th of July Celebration Fireworks | • Event Type: Fireworks Display.
| • Sponsor: Beverly Harbormaster.
| • Date: July 4, 2016.
| • Time: 9:00 p.m. to 11:00 p.m.
| • Location: All waters of Beverly Harbor within a 350-yard radius of the fireworks launch barge located at position 42°33.46′ N., 070°48.28′ W. (NAD 83).
7.6 4th of July Celebration Fireworks | • Event Type: Fireworks Display.
| • Sponsor: Prides Crossing 4th of July Committee.
| • Date: July 4, 2016.
| • Time: 9:00 p.m. to 11:00 p.m.
| • Location: All waters of Manchester Bay within a 350-yard radius of the fireworks launch site near West Beach located at position 42°33.46′ N., 070°48.28′ W. (NAD 83).
7.7 Boston Pops Fireworks | • Event Type: Fireworks Display.
| • Sponsor: Boston 4 Celebrations.
| • Date: July 4, 2016.
| • Time: 8:30 p.m. to 11:00 p.m.
| • Location: All waters of the Charles River within a 350-yard radius of the fireworks barges located in the vicinity of position 42°21.24′ N., 071°04.60′ W. (NAD 83).
7.8 City of Salem Fireworks | • Event Type: Fireworks Display.
| • Sponsor: City of Salem.
| • Date: July 4, 2016.
| • Time: 9:15 p.m. to 10:15 p.m.
| • Location: All waters of Salem Harbor, within a 350-yard radius of the fireworks launch site located on Derby Wharf at position 42°31.15′ N., 070°53.13′ W. (NAD 83).
7.9 Marblehead 4th of July Fireworks | • Event Type: Fireworks Display.
| • Sponsor: Town of Marblehead.
| • Date: July 4, 2016.
| • Time: 9:30 p.m. to 10:00 p.m.
| • Location: All waters of Marblehead Harbor within a 350-yard radius of the fireworks launch site located at position 42°30.34′ N., 070°50.13′ W. (NAD 83).
7.10 Plymouth 4th of July Fireworks | • Event Type: Fireworks Display.
| • Sponsor: July 4 Plymouth, Inc.
| • Date: July 4, 2016.
| • Time: 9:00 p.m. to 10:00 p.m.
| • Location: All waters of Plymouth Harbor within a 350-yard radius of the fireworks launch site located at position 42°57.3′ N., 070°38.3′ W. (NAD 83).
7.11 Town of Nahant Fireworks | • Event Type: Fireworks Display.
| • Sponsor: Town of Nahant.
| • Date: July 4, 2016.
| • Time: 9:00 p.m. to 11:00 p.m.
| • Location: All waters of Nahant Harbor within a 350-yard radius of the fireworks launch site on Bailey's Hill Park located at position 42°25.1′ N., 070°55.8′ W. (NAD 83).
7.13 Yankee Homecoming Fireworks | • Event Type: Fireworks Display.
| • Sponsor: Yankee Homecoming.
| • Date: August 6, 2016.
| • Time: 9:00 p.m. to 10:00 p.m.
| • Location: All waters of the Merrimack River, within a 350-yard radius of the fireworks launch site located at position 42°48.97′ N., 070°52.68′ W. (NAD 83).
7.14 Hingham 4th of July Fireworks | • Event Type: Fireworks Display.
| • Sponsor: Hingham Lions Club.
| • Date: July 2, 2016.
| • Time: 9:00 p.m. to 11:00 p.m.
| • Location: All waters within a 350-yard radius of the beach on Button Island located at position 42°15.07′ N., 070°53.03′ W. (NAD 83).
7.17 Salisbury 4th of July Fireworks | • Event Type: Fireworks Display.
| • Sponsor: Salisbury Chamber of Commerce.
| • Date: July 4, 2016.
| • Time: 9:00 p.m. to 11:00 p.m.
| • Location: All waters of the Atlantic Ocean near Salisbury Beach within a 350-yard radius of the fireworks launch site located at position 42°50.6′ N., 070°48.4′ W. (NAD 83).
7.19 Swim Across America Boston | • Event Type: Swim.
| • Sponsor: Swim Across America.
| • Date: July 8, 2016.
| • Time: 6:00 a.m. to 4:00 p.m.
| • Location: All waters of Boston Harbor between Rowes Warf and Little Brewster Island within the following points (NAD 83): 42°21.4′ N., 071°03.0′ W. 42°21.5′ N., 071°02.9′ W. 42°19.8′ N., 070°53.6′ W. 42°19.6′ N., 070°53.4′ W.

This notice of enforcement is issued under authority of 33 CFR 165.118 and 5 U.S.C. 552 (a). In addition to this notice of enforement in the Federal Register, the Coast Guard will provide notification of these enforcement periods via the Local Notice to Mariners and Broadcast Notice to Mariners.

Dated: June 23, 2016.
C.C. Gelzer,
Captain, U.S. Coast Guard, Captain of the Port Boston.

[FR Doc. 2016-15501 Filed 6-29-16; 8:45 am]

BILLING CODE 9110-04-P